FEDERAL COMMUNICATIONS COMMISSION

47 CFR Part 73

[DA 06-797; MB Docket No. 04-239; RM-10998]

Radio Broadcasting Services; Portage and Stoughton, WI

AGENCY: Federal Communications Commission.

ACTION: Final rule.

SUMMARY: This document grants a petition filed by Magnum Communications, Inc., licensee of Station WBKY(FM), Portage, Wisconsin, requesting the reallotment of Channel 240A from Portage to Stoughton, Wisconsin, as its first local service and modification of the Station WBKY(FM) license accordingly. Channel 240A can be reallotted to Stoughton in conformity with the Commission's rules, provided there is a site restriction of 10.2 kilometers (6.3 miles) southwest of the community, using reference coordinates 42-50-21 NL and 89-16-59 WL.

DATES: Effective May 22, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 04-239, adopted April 5, 2006, and released April 7, 2006. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

The Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Wisconsin, is amended by removing Channel 240A at Portage and by adding Stoughton, Channel 240A.

Federal Communications Commission.
John A. Karousos,
Assistant Chief, Audio Division, Media Bureau.

[FR Doc. 06-4077 Filed 5-2-06; 8:45 am]

BILLING CODE 6712-01-P